DEPARTMENT OF THE INTERIOR

Notice of Availability of Federal Agency Work Plans and Reports for the Klamath River Basin

AGENCY: Klamath River Basin Federal Working Group.

ACTION: Notice of availability.

SUMMARY: The Klamath River Basin Federal Working Group (KRBF) is notifying the public of the availability of Federal agency work plans and reports of the three departments and their respective agencies/bureaus for the Klamath River Basin. These work plans and reports are intended to communicate to the public the scope of work underway by these departments on federal activities in the Klamath River Basin. These documents are not intended to be detailed guidelines, schedules, funding documents, or project descriptions.

Work plans and reports for the Klamath River Basin are available for the following agencies.

• The Department of Agriculture, which includes work under the Natural Resources Conservation Service (NRCS), and the Forest Service (FS);

• The Department of the Interior, which includes work under the Bureau of Reclamation (BOR), Fish and Wildlife Service (FWS), Bureau of Indian Affairs (BIA), Bureau of Land Management (BLM), and U.S. Geological Survey (USGS); and

• The Department of Commerce, which includes work under the National Marine Fisheries Service (NMFS).

These agency documents are available on the Web and can be accessed from one site: http://www.doi.gov/klamath

Further information on each agency work plan or report can be obtained from contacts listed below and listed on the Web sites of each agency.

Agency documents will be modified as changes occur. Each agency will make its modified work plans or reports available on the Web as they become available.

ADDRESSES: Address all requests for information on the work plans to the responsible agency:

• Natural Resources Conservation Service, Attn: State Conservationist—OR, 101 SW Main, Suite 1300, Portland, OR 97204 or State Conservationist—CA 430 G Street, Suite 4164, Davis, CA 95616-2890.

• Forest Service, Fremont-Winema National Forests, Attn: Natural Resources Staff, 1301 South G. St., Lakeview, OR 97630; or Forest Service, Shasta-Trinity, and Six Rivers National Forests, Natural Resources Staff, Attn: Klamath, 1312 Fairlane Road, Yreka, CA 96097.

• National Marine Fisheries Service, Chief, Endangered Species Division, 1315 East-West Hwy, Silver Spring, MD 20910.

• Department of the Interior, Attn: Director, Office of Communications, 1849 C Street, NW., Room 6213, Washington, DC 20240.

FOR FURTHER INFORMATION CONTACT: Eric Ruff, Director, Office of Communications, Department of the Interior, at (202) 208-3752; fax (202) 208-5133, e-mail Eric_Ruff@ios.doi.gov.

SUPPLEMENTARY INFORMATION: The President's Klamath River Basin Federal Working Group was established by Presidential Memo on March 1, 2002. The Working Group was created to advise the President on immediate steps and long-term solutions to enhance water quality and quantity and to address other complex issues in the Klamath River Basin. The Working Group consists of: the Secretary of the Interior, the Secretary of Agriculture, the Secretary of Commerce, and the Chairman of the Council of Environmental Quality.

The Federal agency work plans and reports are developed in a variety of ways, using a variety of planning and other procedures. Descriptions of these documents and procedures are provided below. Means for receiving copies of each work plan or report are listed below. Copies are available on the Web, by phone and mail, and in public offices.

Department of Agriculture Natural Resources Conservation Service (NRCS)

The Work Plan for Adaptive Management, Klamath River Basin, Oregon & California, is designed to be used by NRCS and conservation partners, state and local field staffs, private consultants, landowners/operators, tribal representatives, and others that will be developing or assisting in the development of a comprehensive basin plan. Building on this basin plan; on-farm individual resource management plans, and other documents will be developed to guide the design and implementation of conservation practices to mitigate the impacts of drought on agriculture in the Klamath River Basin.

The Work Plan is a preliminary estimate of NRCS activities over the next five years in the Klamath Basin. The Work Plan includes an adaptive management approach to allow flexibility to respond to change as more information and resources become available such as funding, scientific assessments, impacts of practices to be used, and land-owner objectives. The Work Plan could change dramatically because of these and many more factors.

This Work Plan is based on a rapid assessment of the basin including its present and future natural resource conditions, conservation practices currently installed, future conservation practices and their costs, practice effects, and sources of funds. The work plan contains estimates of funds to be available in FY 2003 through the Farm Bill and other sources along with estimates of outcomes.

The Work Plan describes recent accomplishments, how progress is measured, basin-wide conservation needs and a planning process, and on-farm planning and implementation using anticipated funds. The rapid assessment of the basin will be completed in June 2003.

The Work Plan will be changed based on a final analysis of the rapid assessment information and after funding allowances have been issued to the NRCS state offices from the FY 2003 appropriations. A more detailed description of NRCS activities over the next five years will be prepared early in Phase 2 of the Work Plan. During Phase 2, a Basin Team will be assembled, information will be analyzed from the sub-basin Rapid Assessments, more precise estimates will be made of land-owner willingness to participate, and a basin-wide planning effort will be established with state and other federal agencies, conservation and irrigation districts, and interested stake holders.

Department of Agriculture Forest Service

The FS Work Plan for the Upper Klamath River Basin, Oregon, and Middle and Lower Klamath River Basin, California, display past, present, and future projects which will enhance and restore the functioning of the basin ecosystem. The plan includes watershed level projects and plans as well local projects designed to achieve the objectives. Web links are included where available that will give the reader additional information for each project.

The Work Plan displays current activities as well as future projects that are in the planning stage. As planning proceeds, changes will be made based on the availability of funds, scientific assessments, and environmental assessments. Similar projects are expected to be implemented in the future.

The Work Plan describes recent accomplishments as well as planned activities. The plan will be changed annually as wider area assessments and plans are developed with specific proposed actions. The planning will involve state and other federal agencies, the affected Tribes, and interested stakeholders.

Department of the Interior

The Department of the Interior has summarized its work on Klamath water, habitat and species issues in two documents. The first of these is titled, “Summary of Ongoing and Planned Work of the Department of the Interior Related to the Klamath River Basin.” That document summarizes ongoing and planned work of the five Interior bureaus—FWS, BOR, BIA, BLM, and USGS—primarily involved in such work. The document highlights two key planning efforts underway—the development of a Klamath Basin Conservation Implementation Plan led by the BOR and an aquatic habitat restoration scenario being prepared by the FWS. The summary also discusses Habitat Conservation Plan initiatives, Environmental Impact Statement work underway, the Trinity River restoration initiative, the development of a water bank for the Klamath Irrigation Project, habitat restoration, water leasing, and water storage initiatives in the Wood River valley, work on water-right claims, groundwater studies in the upper Klamath River basin, and participation in the Federal licensing process for PacifiCorp's Klamath River basin hydropower facilities.

The second document is titled, “Klamath Basin—Summary of Recent Federal Government Activities.” This document summarizes work that has been conducted over the past several years—much of which is continuing today—dealing with the basin's difficult and interrelated water, habitat and species issues. The summary paper highlights initiatives dealing with water resources, land management practices, salmon enhancement, fish and wildlife habitat restoration, research, monitoring and assessment, Endangered Species Act responsibilities, and community outreach.

Department of Commerce National Oceanic and Atmospheric Administration Fisheries

The report on Past, Present and Future Activities Being Conducted in the Klamath River Basin Related to the Protection and Recovery of Fish and Their Habitat describes NOAA Fisheries involvement in a broad range of activities in the Klamath Basin under the authorities of the Endangered Species Act (ESA), the Magnuson-Stevens Fishery Conservation and Management Act (Magnuson Act), and other federal statutes. Through these statutes, NOAA Fisheries endeavors to protect and recover fish populations under their jurisdiction. NOAA Fisheries also administers grants to state, tribal and local entities in the Klamath River basin for salmon restoration and watershed improvement activities. NOAA Fisheries activities in the basin principally occur in the lower Klamath Basin, where anadromous species occur. However, NOAA Fisheries does administer grants to the State of Oregon for watershed improvements in the upper Klamath River basin, which in turn benefit anadromous species in the lower basin. The report summarizes NOAA Fisheries' primary activities in the Klamath Basin that have occurred over the past five years as well as those activities that will occur into the future. It is intended to inform the user of the involvement of NOAA Fisheries in a variety of activities as they relate to anadromous fish in the basin. The report will be updated as projects and funding levels evolve over the next five years.

Signed at Washington, DC, on March 25, 2003.
Gale A. Norton,
Secretary of the Interior and Chairman of the President's Klamath River Basin Federal Working Group.

[FR Doc. 03-7513 Filed 3-27-03; 8:45 am]

BILLING CODE 4310-10-M